SECURITIES AND EXCHANGE COMMISSION

[File No. 500-1]

In the Matter of Triumph Ventures Corp.; Order of Suspension of Trading

April 10, 2015.

It appears to the Securities and Exchange Commission that there is lack of current and accurate information concerning the securities of Triumph Ventures Corp., a Delaware corporation whose principal office is in Jerusalem, Israel (trading symbol TRVX quoted on OTC Link operated by OTC Markets Group, Inc.) because of questions regarding the accuracy of publicly available information about the company's control persons, officers, directors, and the ownership of its stock, including questions about the accuracy of statements in the company's annual report on Form 10-K for the fiscal year ended December 31, 2014, and in its registration statement on Form S-1 originally filed on March 4, 2014 and subsequently amended concerning the identification and description of the company's directors, officers, control persons and ownership.

The Commission is of the opinion that the public interest and the protection of investors require a suspension of trading in the securities of the above-listed company.

Therefore, it is ordered, pursuant to Section 12(k) of the Securities Exchange Act of 1934, that trading in the above-listed company is suspended for the period from 9:30 a.m. EDT, April 10, 2015, through 11:59 p.m. EDT, on April 23, 2015.

By the Commission.
Jill M. Peterson,
Assistant Secretary.

[FR Doc. 2015-08638 Filed 4-10-15; 4:15 pm]

BILLING CODE 8011-01-P